DEPARTMENT OF ENERGY

Federal Energy Regulatory Commission

Combined Notice of Filings #1

Take notice that the Commission received the following exempt wholesale generator filings:

Docket Numbers: EG12-69-000.

Applicants: Shooting Star Wind Project, LLC.

Description: Self-Certification of Exempt Wholesale Generator Status of Shooting Star Wind Project, LLC.

Filed Date: 5/22/12.

Accession Number: 20120522-5163.

Comments Due: 5 p.m. ET 6/12/12.

Take notice that the Commission received the following electric rate filings:

Docket Numbers: ER12-1571-001.

Applicants: Verso Bucksport LLC.

Description: Verso Bucksport LLC's Supplement to Market-Based Rate Application.

Filed Date: 5/15/12.

Accession Number: 20120515-5129.

Comments Due: 5 p.m. ET 6/5/12.

Docket Numbers: ER12-1827-000.

Applicants: Midwest Independent Transmission System Operator, Inc.

Description: J053 GIA refile to be effective 5/23/2012.

Filed Date: 5/22/12.

Accession Number: 20120522-5142.

Comments Due: 5 p.m. ET 6/12/12.

Docket Numbers: ER12-1828-000.

Applicants: KCP&L Greater Missouri Operations Company.

Description: RS 134, Joint Operating Agreement (KCP&L) to be effective 12/31/9998.

Filed Date: 5/22/12.

Accession Number: 20120522-5147.

Comments Due: 5 p.m. ET 6/12/12.

Docket Numbers: ER12-1829-000.

Applicants: Shooting Star Wind Project, LLC.

Description: Application for Market-Based Rate Authorization to be effective 7/21/2012.

Filed Date: 5/22/12.

Accession Number: 20120522-5164.

Comments Due: 5 p.m. ET 6/12/12.

Docket Numbers: ER12-1830-000.

Applicants: San Diego Gas & Electric Company.

Description: Campo Verde Solar EP Agreement to be effective 5/19/2012.

Filed Date: 5/22/12.

Accession Number: 20120522-5165.

Comments Due: 5 p.m. ET 6/12/12.

Docket Numbers: ER12-1831-000.

Applicants: Pacific Gas and Electric Company.

Description: Notice of Termination of Schindler 3 E&P Agreement to be effective 5/21/2012.

Filed Date: 5/22/12.

Accession Number: 20120522-5175.

Comments Due: 5 p.m. ET 6/12/12.

Docket Numbers: ER12-1832-000.

Applicants: Lucky Corridor, LLC.

Description: Application of Lucky Corridor, LLC for Authorization to Sell Transmission Rights and Service at Negotiated Rates.

Filed Date: 5/22/12.

Accession Number: 20120522-5189.

Comments Due: 5 p.m. ET 6/12/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2012.
Nathaniel J. Davis, Sr.,
Deputy Secretary.

[FR Doc. 2012-13547 Filed 6-4-12; 8:45 am]

BILLING CODE 6717-01-P